DEPARTMENT OF LABOR

Employment and Training Administration

[TA-W-73,579]

Consolidated Glass and Mirror Corporation, a Subsidiary of Guardian Industries Corporation, Galax, VA; Notice of Affirmative Determination Regarding Application for Reconsideration

By application dated September 2, 2010, petitioners requested administrative reconsideration of the negative determination regarding workers' eligibility to apply for Trade Adjustment Assistance (TAA) applicable to workers and former workers of Consolidated Glass and Mirror Corporation, a Subsidiary of Guardian Industries Corporation, Galax, Virginia (subject firm). The determination was issued on August 5, 2010. The Department's Notice of Determination was published in the Federal Register on August 23, 2010 (75 FR 51849). Workers are engaged in employment related to the production of laminated glass products.

The negative determination was based on the findings that the subject firm did not, during the period under investigation, shift to a foreign country production of articles like or directly competitive with those produced by the workers or acquire these articles from a foreign country; that the workers' separation, or threat of separation, was not related to any increase in imports of like or directly competitive articles; and that the workers did not produce an article that was directly used in the production of an article or the supply of service by a firm that employed a worker group that is eligible to apply for TAA based on the aforementioned article or service.

In the request for reconsideration, the petitioners provided additional information pertaining to subject firm customers that employ workers who are eligible to apply for TAA.

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 21st day of September 2010.
Del Min Amy Chen
Certifying Officer, Office of Trade Adjustment Assistance.

[FR Doc. 2010-24382 Filed 9-28-10; 8:45 am]

BILLING CODE 4510-FN-P